DEPARTMENT OF TRANSPORTATION

Federal Aviation Administration

14 CFR Part 39

[Docket No. FAA-2013-0467; Directorate Identifier 2013-NM-023-AD; Amendment 39-17716; AD 2013-26-07]

RIN 2120-AA64

Airworthiness Directives; Airbus Airplanes

AGENCY: Federal Aviation Administration (FAA), Department of Transportation (DOT).

ACTION: Final rule.

SUMMARY: We are adopting a new airworthiness directive (AD) for all Airbus Model A318, A319, A320, and A321 series airplanes. This AD was prompted by reports of certain sliding windows that were difficult to operate after landing. This AD requires a detailed inspection to identify part numbers of sliding windows and sliding window seals, and modification if necessary. This AD also includes an optional replacement. We are issuing this AD to detect and correct incorrect seals, which could lead to the functional loss of the sliding window as an exit, possibly preventing the flightcrew from safely evacuating the airplane during an emergency.

DATES: This AD becomes effective February 10, 2014.

The Director of the Federal Register approved the incorporation by reference of certain publications listed in this AD as of February 10, 2014.

ADDRESSES: You may examine the AD on the Internet at http://www.regulations.gov/#!docketDetail;D=FAA-2013-0467; or in person at the U.S. Department of Transportation, Docket Operations, M-30, West Building Ground Floor, Room W12-140, 1200 New Jersey Avenue SE., Washington, DC.

For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For PPG Aerospace service information identified in this AD, contact PPG Aerospace, 12780 San Fernando Road, Sylmar, CA 91342; telephone 818-362-6711; fax 818-362-0603; Internet http://corporateportal.ppg.com/na/aerospace. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 to include an AD that would apply to the specified products. The NPRM published in the Federal Register on July 3, 2013 (78 FR 40057). The NPRM proposed to correct an unsafe condition for the specified products.

The European Aviation Safety Agency (EASA), which is the Technical Agent for the Member States of the European Community, has issued EASA Airworthiness Directive 2013-0011, dated January 15, 2013 (referred to after this as the Mandatory Continuing Airworthiness Information, or “the MCAI”), to correct an unsafe condition for the specified products. The MCAI states:

Several occurrences have been reported on A320 family aeroplanes of PPG sliding windows that were difficult to operate after landing.

The investigation results revealed that when a seal having Part Number (P/N) 22-17-7640-1 or P/N 22-17-7640-2 is installed on a sliding window, closure of the window can create a vacuum between the 2 tubes of the pressure seal, leading to the window remaining stuck to the frame on the fuselage side, due to suction effect.

This condition, if not detected and corrected, could lead to the functional loss of the sliding window as an exit, possibly preventing the flight crew from safely evacuating the aeroplane during an emergency.

For the reasons described above, this [EASA] AD requires a one-time detailed inspection (DI) of the sliding windows and its seal to identify the affected sliding window seals and, depending on findings, accomplishment of the applicable corrective actions [corrective action includes a modification or replacement].

The subject area on certain Airbus Model A318, A319, and A321 series airplanes is almost identical to that on the affected Model A320 series airplanes. Therefore, those Model A318, A319, and A321 series airplanes may be subject to the unsafe condition revealed on the Model A320 series airplanes. You may examine the MCAI in the AD docket on the Internet at http://www.regulations.gov/#!documentDetail;D=FAA-2013-0467-0002.

Comments

We gave the public the opportunity to participate in developing this AD. We considered the comment received.

Request for Identification Change

United Airlines (UAL) requested that the modification be recorded at the part number level, instead of the serial number level. UAL explained that re-identifying the post-modification window at the serial number level only will potentially lead to de-modification of the window, which could result in the unsafe condition identified in the NPRM (78 FR 40057, July 3, 2013). UAL reasoned that re-identifying the window at the part number level would better allow operators to manage the post-AD configuration.

UAL provided further substantiation to add the “M” to the part number instead of the serial number during a teleconference with us during the week of September 23, 2013. UAL's reason for adding the “M” to the part number is related to the convenience/preference of UAL maintenance practices.

We disagree with the request to require recording the modification at the part number level. After coordinating with Airbus, we have determined that adding “M” to the serial number will prevent installation of unsafe sliding window part numbers without changing the part number configuration and associated administrative processes to change part numbers. However, we have revised paragraph (h) of this final rule to include phrasing to clarify and to allow for modification to be recorded at the serial number level of the affected part number.

Conclusion

We reviewed the available data, including the comment received, and determined that air safety and the public interest require adopting this AD with the change described previously and minor editorial changes. We have determined that these changes:

• Are consistent with the intent that was proposed in the NPRM (78 FR 40057, July 3, 2013) for correcting the unsafe condition; and

• Do not add any additional burden upon the public than was already proposed in the NPRM (78 FR 40057, July 3, 2013).

Costs of Compliance

Based on the service information, we estimate that this AD affects about 851 products of U.S. registry. We also estimate that it will take about 3 work-hours per product to comply with the basic requirements of this AD. The average labor rate is $85 per work-hour. Based on these figures, we estimate the cost of this AD on U.S. operators to be $217,005, or $255 per product.

In addition, we estimate that any necessary follow-on actions will take about 1 work-hour and require parts costing $0, for a cost of $85 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the MCAI in the AD docket on the Internet at http://www.regulations.gov/#!documentDetail;D=FAA-2013-0467-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-26-07 Airbus: Amendment 39-17716. Docket No. FAA-2013-0467; Directorate Identifier 2013-NM-023-AD.

(a) Effective Date

This airworthiness directive (AD) becomes effective February 10, 2014.

(b) Affected ADs

None.

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 56, Windows.

(e) Reason

This AD was prompted by reports of certain sliding windows that were difficult to operate after landing. We are issuing this AD to detect and correct incorrect seals, which could lead to the functional loss of the sliding window as an exit, possibly preventing the flightcrew from safely evacuating the airplane during an emergency.

(f) Compliance

You are responsible for having the actions required by this AD performed within the compliance times specified, unless the actions have already been done.

(g) Inspection

Within 750 flight cycles or 750 flight hours or 4 months after the effective date of this AD, whichever occurs first: Do a detailed inspection to identify part numbers (P/Ns) of each window and seal of the left-hand (LH) and right-hand (RH) sliding windows and sliding window seals, in accordance with the Accomplishment Instructions of Airbus Service Bulletin A320-56-1016, including Appendices 01 and 02, dated September 14, 2012. A review of airplane maintenance records is acceptable in lieu of this inspection if the part number of the window and seal of the LH and RH sliding windows and sliding window seals can be conclusively determined from that review.

(h) Modification

If a sliding window part number identified in table 1 to paragraph (h) of this AD is found during the inspection required by paragraph (g) of this AD; and the serial number of the part does not have the modification amendment letter “M,” and does have sliding window seals having P/N 22-17-7640-1 or P/N 22-17-7640-2 installed: Within the compliance time specified in paragraph (g) of this AD, modify the sliding window seal (which includes adding the letter “M” to serial number of the affected part), in accordance with the Accomplishment Instructions of Airbus Service Bulletin A320-56-1015, dated September 14, 2012.

Table 1 to Paragraph (h) of This AD—Affected PPG Aerospace Sliding Window Part Numbers
Left-hand | Right-hand
NP165312-1 | NP165312-2
NP165312-3 | NP165312-4
NP165312-5 | NP165312-6
NP165312-7 | NP165312-8
NP165312-9 | NP165312-10
NP165312-11 | NP165312-12

(i) Optional Replacement

For sliding windows identified as affected in paragraph (h) of this AD, replacement of a sliding window seal having P/N 22-17-7640-1 L/H or P/N 22-17-7640-2 R/H with a seal having P/N 22-17-7640-3 L/H or P/N 22-17-7640-4 R/H, respectively, in accordance with a method approved by either the Manager, International Branch, ANM-116, Transport Airplane Directorate, FAA, or the European Aviation Safety Agency (EASA) (or its delegated agent), is an acceptable alternative method of compliance with the modification required by paragraph (h) of this AD.

Note 1 to paragraph (i) of this AD: Guidance for replacement of a sliding window seal can be found in Page Block 401 of Sub-section 56-12-11 of the Airbus A318/A319/A320/A321 Aircraft Maintenance Manual.

(j) Exceptions to Requirements of Paragraphs (g) and (h) of This AD

(1) Airplanes on which Airbus Modification 153512 (installation of sliding window with P/N NP165312-13 and P/N NP165312-14 with improved seal) or Modification 153534 (installation of sliding window with P/N NP165312-11 and P/N NP165312-12 with amendment M) has been embodied in production are not affected by the requirements of paragraphs (g) and (h) of this AD, provided that no sliding window or sliding window seal has been replaced since first flight.

(2) Airplanes on which Airbus Modification 39587 (installation of affected seal on PPG Aerospace sliding windows) has not been embodied in production are not affected by the requirements of paragraphs (g) and (h) of this AD, provided that no sliding window or sliding window seal has been replaced since first flight.

(k) Parts Installation Limitation

As of the effective date of this AD, no person may install on any airplane any PPG Aerospace sliding window with a part number listed in table 1 to paragraph (h) of this AD with a seal having P/N 22-17-7640-1 or P/N 22-17-7640-2, unless the seal has been modified in accordance with the Accomplishment Instructions of Airbus Service Bulletin A320-56-1015, dated September 14, 2012; or PPG Aerospace Service Bulletin 165312-56-001, dated February 29, 2012.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to Mandatory Continuing Airworthiness Information (MCAI) EASA Airworthiness Directive 2013-0011, dated January 15, 2013, for related information. This MCAI may be found in the AD docket on the Internet at http://www.regulations.gov/#!documentDetail;D=FAA-2013-0467-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-56-1015, dated September 14, 2012.

(ii) Airbus Service Bulletin A320-56-1016, including Appendices 01 and 02, dated September 14, 2012.

(iii) PPG Aerospace Service Bulletin 165312-56-001, dated February 29, 2012.

(3) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) For PPG Aerospace service information identified in this AD, contact PPG Aerospace, 12780 San Fernando Road, Sylmar, CA 91342; telephone 818-362-6711; fax 818-362-0603; Internet http://corporateportal.ppg.com/na/aerospace.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on December 20, 2013.
Jeffrey E. Duven,
Manager, Transport Airplane Directorate, Aircraft Certification Service.

[FR Doc. 2013-31313 Filed 1-3-14; 8:45 am]

BILLING CODE 4910-13-P